DEPARTMENT OF TRANSPORTATION

Federal Aviation Administration

14 CFR Part 39

[Docket No. 99-SW-77-AD; Amendment 39-11598; AD 2000-04-15]

RIN 2120-AA64

Airworthiness Directives; Bell Helicopter Textron Canada Model 222, 222B, 222U, and 230 Helicopters

AGENCY: Federal Aviation Administration, DOT.

ACTION: Final rule; request for comments.

SUMMARY: This amendment adopts a new airworthiness directive (AD) applicable to Bell Helicopter Textron Canada (BHTC) Model 222, 222B, 222U, and 230 helicopters. This action requires inspecting the swashplate assembly drive pin (drive pin) for damage or looseness, torque testing to determine if the interference fit between the drive pin and rotating ring (ring) is adequate, and replacing any unairworthy drive pin. This amendment is prompted by an accident investigation that revealed fatigue failure of a drive pin. The actions specified in this AD are intended to prevent fatigue failure of a drive pin and subsequent loss of control of the helicopter.

DATES: Effective March 14, 2000.

The incorporation by reference of certain publications listed in the regulations is approved by the Director of the Federal Register as of March 14, 2000.

Comments for inclusion in the Rules Docket must be received on or before April 28, 2000.

ADDRESSES: Submit comments in triplicate to the Federal Aviation Administration (FAA), Office of the Regional Counsel, Southwest Region, Attention: Rules Docket No. 99-SW-77-AD, 2601 Meacham Blvd., Room 663, Fort Worth, Texas 76137.

The service information referenced in this AD may be obtained from Bell Helicopter Textron Canada, 12,800 Rue de l'Avenir, Mirabel, Quebec JON1LO, telephone (800) 463-3036, fax (514) 433-0272. This information may be examined at the FAA, Office of the Regional Counsel, Southwest Region, 2601 Meacham Blvd., Room 663, Fort Worth, Texas 76137; or at the Office of the Federal Register, 800 North Capitol Street, NW., suite 700, Washington, DC.

FOR FURTHER INFORMATION CONTACT: Sharon Miles, Aerospace Engineer, FAA, Rotorcraft Directorate, Regulations Group, 2601 Meacham Blvd., Fort Worth, Texas 76137, telephone (817) 222-5122, fax (817) 222-5961.

SUPPLEMENTARY INFORMATION: Transport Canada, which is the airworthiness authority for Canada, notified the FAA that an unsafe condition may exist on BHTC Model 222, 222B, 222U, and 230 helicopters. Transport Canada advises that an investigation into the crash of a BHTC Model 222 helicopter revealed that one of the two drive pins, part number (P/N) 222-010-455-003, had failed due to an insufficient interference fit between the pin and the ring.

BHTC has issued Service Bulletins 230-99-16, 222U-99-55, and 222-99-84, all dated February 15, 1999. These service bulletins describe procedures for inspecting each drive pin, P/N 222-010-455-003, for damage or looseness; conducting an initial torque test to determine if the interference fit between each drive pin and ring is adequate; and replacing any unairworthy drive pin. Transport Canada classified these service bulletins as mandatory and issued AD No. CF-99-16, dated June 9, 1999, to ensure the continued airworthiness of these helicopters in Canada.

These helicopter models are manufactured in Canada and are type certificated for operation in the United States under the provisions of section 21.29 of the Federal Aviation Regulations (14 CFR 21.29) and the applicable bilateral airworthiness agreement. Pursuant to this bilateral airworthiness agreement, Transport Canada has kept the FAA informed of the situation described above. The FAA has examined the findings of Transport Canada, reviewed all available information, and determined that AD action is necessary for products of these type designs that are certificated for operation in the United States.

Since an unsafe condition has been identified that is likely to exist or develop on other BHTC Model 222, 222B, 222U, and 230 helicopters of these same type designs registered in the United States, this AD is being issued to prevent fatigue failure of a drive pin, P/N 222-010-455-003, and subsequent loss of control of the helicopter. This AD requires inspecting each drive pin for damage or looseness, an initial torque test to determine if the interference fit between the drive pin and ring is adequate, and replacing any unairworthy drive pin. The actions are required to be accomplished in accordance with the service bulletins described previously. The short compliance time involved is required because the previously described critical unsafe condition can adversely affect the controllability and structural integrity of the helicopter. Therefore, an inspection and torque test of the drive pin is required within the next 50 hours time-in-service (TIS) and this AD must be issued immediately.

Since a situation exists that requires the immediate adoption of this regulation, it is found that notice and opportunity for prior public comment hereon are impracticable, and that good cause exists for making this amendment effective in less than 30 days.

The FAA estimates that 105 helicopters will be affected by this AD, that it will take approximately 1 work hour to accomplish the inspection and the torque test, and that the average labor rate is $60 per work hour. A special tool to perform the torque test will cost approximately $196 per helicopter. Based on these figures, the total cost impact of the AD on U.S. operators is estimated to be $26,880.

Comments Invited

Although this action is in the form of a final rule that involves requirements affecting flight safety and, thus, was not preceded by notice and an opportunity for public comment, comments are invited on this rule. Interested persons are invited to comment on this rule by submitting such written data, views, or arguments as they may desire. Communications should identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket No. 99-SW-77-AD.” The postcard will be date stamped and returned to the commenter.

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

AD 2000-04-15 Bell Helicopter Textron Canada: Amendment 39-11598. Docket No. 99-SW-77-AD.

Applicability: Model 222, serial number (S/N) 47006 through 47089; Model 222B, S/N 47131 through 47156; Model 222U, S/N 47501 through 47574; and Model 230, S/N 23001 through 23038, helicopters, with swashplate drive pin (drive pin), part number (P/N) 222-010-455-003, installed, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (b) of this AD. The request should include an assessment of the effect of the modification, alteration, or repair on the unsafe condition addressed by this AD; and if the unsafe condition has not been eliminated, the request should include specific proposed actions to address it.

Compliance: Required as indicated, unless accomplished previously.

To prevent fatigue failure of a drive pin and subsequent loss of control of the helicopter, accomplish the following:

(a) Within the next 50 hours time-in-service (TIS), and thereafter at intervals not to exceed 150 hours TIS, inspect for damage or looseness and torque test any drive pin, P/N 222-010-455-003, in accordance with the Accomplishment Instructions of Bell Helicopter Textron Alert Service Bulletins 230-99-16, 222-99-84, or 222U-99-55, all dated February 15, 1999, as applicable. Replace any unairworthy drive pin with an airworthy drive pin.

(b) An alternative method of compliance or adjustment of the compliance time that provides an acceptable level of safety may be used if approved by the Manager, Regulations Group, Rotorcraft Directorate, FAA. Operators shall submit their requests through an FAA Principal Maintenance Inspector, who may concur or comment and then send it to the Manager, Regulations Group.

Note 2: Information concerning the existence of approved alternative methods of compliance with this AD, if any, may be obtained from the Regulations Group.

(c) Special flight permits may be issued in accordance with sections 21.197 and 21.199 of the Federal Aviation Regulations (14 CFR 21.197 and 21.199) to operate the helicopter to a location where the requirements of this AD can be accomplished.

(d) The inspection and torque test shall be done in accordance with the Accomplishment Instructions of Bell Helicopter Textron Alert Service Bulletins 230-99-16, 222-99-84, or 222U-99-55, all dated February 15, 1999. This incorporation by reference was approved by the Director of the Federal Register in accordance with 5 U.S.C. 552(a) and 1 CFR part 51. Copies may be obtained from Bell Helicopter Textron Canada, 12,800 Rue de l'Avenir, Mirabel, Quebec JON1LO, telephone (800) 463-3036, fax (514) 433-0272. Copies may be inspected at the FAA, Office of the Regional Counsel, Southwest Region, 2601 Meacham Blvd., Room 663, Fort Worth, Texas; or at the Office of the Federal Register, 800 North Capitol Street, NW., suite 700, Washington, DC.

(e) This amendment becomes effective on March 14, 2000.

Note 3: The subject of this AD is addressed in Transport Canada (Canada) AD CF-99-19, dated June 9, 1999.

Issued in Fort Worth, Texas, on February 16, 2000.
Henry A. Armstrong,
Manager, Rotorcraft Directorate, Aircraft Certification Service.

[FR Doc. 00-4371 Filed 2-25-00; 8:45 am]

BILLING CODE 4910-13-U